FEDERAL COMMUNICATIONS COMMISSION

47 CFR Part 73

[DA 01-1595; MM Docket No. 99-358; RM-9783 & RM-9838]

Radio Broadcasting Services; Burnet, TX

AGENCY: Federal Communications Commission.

ACTION: Final rule.

SUMMARY: This document allots Channel 240A to Burnet, Texas, in response to a petition filed by Elgin FM Limited Partnership. See 64 FR 73463, December 30, 1999. The coordinates for Channel 240A at Burnet are 30-51-05 NL and 98-17-35 WL. There is a site restriction 12.1 kilometers (7.5 miles) northwest of the community. Concurrence of the Mexican government has been received for this allotment. The counterproposal filed by Evant Radio Company (RM-9838) for Evant, Texas, has been withdrawn. The counterproposal filed by Buchanan Radioworks for an allotment at Buchanan Dam, Texas, has been dismissed. With this action, this proceeding is terminated. A filing window for Channel 204A at Burnet will not be opened at this time. Instead, the issue of opening this allotment for auction will be addressed by the Commission in a subsequent order.

DATES: Effective August 20, 2001.

FOR FURTHER INFORMATION CONTACT: Kathleen Scheuerle, Mass Media Bureau, (202) 418-2180.

SUPPLEMENTARY INFORMATION: This is a summary of the Commission's Report and Order, MM Docket No. 99-358, adopted June 27, 2001, and released July 6, 2001. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 240A at Burnet.

Federal Communications Commission.
John A. Karousos,
Chief, Allocations Branch, Policy and Rules Division, Mass Media Bureau.

[FR Doc. 01-18053 Filed 7-18-01; 8:45 am]

BILLING CODE 6712-01-M